DEPARTMENT OF TRANSPORTATION

Federal Aviation Administration

14 CFR Part 71

[Docket No. FAA-2024-2055; Airspace Docket No. 22-AWP-56]

RIN 2120-AA66

Modification of Class D Airspace, Establishment of Class E Airspace; San Bernardino International Airport, San Bernardino, CA

AGENCY: Federal Aviation Administration (FAA), DOT.

ACTION: Notice of proposed rulemaking (NPRM).

SUMMARY: This action proposes to modify the Class D airspace and establish Class E airspace designated as an extension to a Class D surface area at San Bernardino International Airport, CA (KSBD). Additionally, this action proposes an administrative amendment to update the airport's existing Class D airspace legal description. These actions would support the safety and management of instrument flight rules (IFR) and visual flight rules (VFR) operations at the airport.

DATES: Comments must be received on or before November 25, 2024.

ADDRESSES: Send comments identified by FAA Docket No. FAA-2024-2055 and Airspace Docket No. 22-AWP-56 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class D airspace and establish Class E airspace to support IFR and VFR operations at KSBD.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class D and E4 airspace designations are published in paragraphs 5000 and 6004, respectively, of FAA Order JO 7400.11, Airspace Designations and Reporting Points, which is incorporated by reference in 14 CFR 71.1 on an annual basis. This document proposes to amend the current version of that order, FAA Order JO 7400.11J, dated July 31, 2024 and effective September 15, 2024. These updates would be published in the next update to FAA Order JO 7400.11. That order is publicly available as listed in the ADDRESSES section of this document.

FAA Order JO 7400.11J lists Class A, B, C, D, and E airspace areas, air traffic service routes, and reporting points.

The Proposal

The FAA is proposing an amendment to 14 CFR part 71 that would modify Class D airspace and establish Class E airspace designated as an extension to a Class D surface area at San Bernardino International Airport, CA.

The ceiling of the KSBD Class D airspace should be raised from 3,200 feet to 3,700 feet mean sea level (MSL). This action would give the airport a ceiling height of 2,500 feet above ground level (AGL), which is recommended for Class D airspace that serves turbojet or turboprop aircraft in a high-density area.

The eastern boundary of the Class D airspace does not fully contain IFR departure operations between the surface and the base of adjacent airspace when departing Runway (RWY) 6 on the Obstacle Departure Procedure (ODP) or the JADKO ONE DEPARTURE (Area Navigation [RNAV]) procedure due to rising terrain north-through-east of the airport. The northeastern lateral boundary should be extended 2.5 miles eastward in the form of a shelf that extends upward from 2,600 feet MSL to and including 3,700 feet MSL. This proposed shelf would better contain the aforementioned departure procedures until reaching the next adjacent airspace while preserving the 1,000-foot AGL traffic patterns at Redlands Municipal Airport, Redlands, CA (4.4 miles away from KSBD).

The western boundary of the Class D airspace does not fully contain the RWY 24 ODP until reaching the base of adjacent airspace, nor does it fully contain IFR arrival operations between the surface and 1,000 feet above the surface when executing the RNAV (Required Navigation Performance [RNP]) X RWY 6 arrival procedure. The lateral boundary of the surface area should be extended a half mile beyond the area's established 4.5-mile radius to meet containment standards for these two procedures.

The northern boundary of the Class D airspace does not fully contain the JADKO ONE DEPARTURE (RNAV) RWY 6 procedure until reaching the next adjacent airspace due to rising terrain north-through-east of KSBD. The northern boundary should be moved .29 miles north to more appropriately contain the procedure's track width. Additionally, this modification would better align the northern Class D airspace border with the northern border of the proposed Class D shelf, east of the airport.

The eastern lateral boundary of the Class D airspace does not fully contain the RNAV (RNP) RWY 24 arrival procedure while between the surface and 1,000 feet above the surface. A Class E extension to the Class D surface area airspace should be established to contain the arrival procedure more appropriately. This proposed area would extend eastward-then-southward in a “dog-leg” shape to avoid overlying Redlands Municipal Airport, with its southeasternmost point located approximately 8 miles southeast of the airport. This proposed airspace would impose a 500-foot clearance-from-clouds requirement on VFR aircraft operating within the airspace area to support flight safety at KSBD without imposing 2-way radio communication.

Finally, the FAA proposes a modification to the administrative portion of the airport's Class D airspace legal description. The description should be updated to replace the outdated use of the phrases “Notice to Airmen” and “Airport/Facility Directory.” These phrases should be amended to read “Notice to Air Missions” and “Chart Supplement,” respectively, to align with the FAA's current nomenclature.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AWP CA D San Bernardino, CA [Amended]

San Bernardino International Airport, CA

(Lat. 34°05′43″ N, long. 117°14′06″ W)

Ontario International Airport, CA

(Lat. 34°03′22″ N, long. 117°36′04″ W)

That airspace extending upward from the surface to and including 3,700 feet within a boundary beginning at the airport's 048° bearing at 4.1 miles, then south along Church Street to the 137° bearing at 4.5 miles, then clockwise around the airport's 4.5-mile radius to the 307° bearing, thence to the point of beginning, and within an area 2.1 miles either side of the airport's 250° bearing extending from the 4.5-mile radius to 5 miles west of the airport, excluding that airspace within the Ontario International Airport Class C airspace; that airspace extending upwards from 2,600 feet to and including 3,700 feet within an area 2.8 miles north and 1.1 miles south of the airport's 090° bearing extending from 3 miles east of the airport to the 5.5-mile radius of the airport. This Class D airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 San Bernardino, CA [New]

San Bernardino International Airport, CA

(Lat. 34°05′43″ N, long. 117°14′06″ W)

Point in Space

(Lat. 34°02′46″ N, long. 117°10′03″ W)

That airspace extending upward from the surface within a boundary beginning at the airport's 048° bearing at 4.1 miles, then south along Church Street to its intersection with the Point in Space's 2.8-mile radius, thence clockwise via the Point in Space's 2.8-mile radius to its 068° bearing, thence to lat. 34°01′38″ N, long. 117°06′56″ W, to lat. 34°01′38″ N, long. 117°04′17″ W, to lat. 34°08′29″ N, long. 117°04′17″ W, thence to the point of beginning. This Class E airspace area is effective during the specific dates and times established in advance by a Notice to Air Missions. The effective date and time will thereafter be continuously published in the Chart Supplement.

* * * * *

Issued in Des Moines, Washington, on October 7, 2024.
B.G. Chew,
Group Manager, Operations Support Group, Western Service Center.

[FR Doc. 2024-23497 Filed 10-10-24; 8:45 am]

BILLING CODE 4910-13-P